DEPARTMENT OF AGRICULTURE

Forest Service

Nez Perce-Clearwater National Forest; Idaho; Middle Fork Vegetation Management

AGENCY: Forest Service, USDA.

ACTION: Notice of intent to prepare an environmental impact statement.

SUMMARY: The Forest Service gives notice of its intent to prepare an Environmental Impact Statement for the Middle Fork Vegetation Management Project. The Proposed action would use a combination of timber harvest, pre-commercial thinning, prescribed fire and reforestation to achieve the desired range of age classes, size classes, vegetative species distributions habitat complexity (diversity) and landscape pattern across the forested portions of the project area. Road decommissioning, and road improvements are also proposed to improve watershed health. The EIS will analyze the effects of the proposed action and alternatives. The Nez Perce-Clearwater Forests invites comments and suggestions on the issues to be addressed. The agency gives notice of the National Environmental Policy Act (NEPA) analysis and decision making process on the proposal so interested and affected members of the public may participate and contribute to the final decision.

DATES: Comments concerning the scope of the analysis must be received by February 3, 2014. The draft environmental impact statement is expected in May 2014 and the final environmental impact statement is expected November 2014.

ADDRESSES: Send written comments to Mike Ward, Interdisciplinary Team Leader; 502 Lowry Street, Kooskia, Idaho 83539. Comments may also be sent via email to comments-northern-nezperce-moose-creek@fs.fed.us

FOR FURTHER INFORMATION CONTACT: Mike Ward, Interdisciplinary Team Leader, (208) 926-6413

SUPPLEMENTARY INFORMATION: The objective of the Middle Fork Project is to move the area towards a more diverse and resilient landscape structure by creating a range of age and size classes that more closely emulates a mixed-severity fire regime. Also, the desired species composition would be moved more towards the early-seral species (ponderosa pine, western larch, and white pine) by retaining these species in variable retention harvesting and by planting post-harvest, which would improve resilience to root diseases, bark beetles, fire and a changing climate over the long-term.

Watershed improvement activities would reduce road related impacts to the watershed and important aquatic habitats while still providing a stable and cost efficient transportation system and dispersed recreation opportunities.

Vegetation Management

Purpose: Trend vegetation species composition, structure, and distributions toward desired conditions described in the Forest Plan.

Need: The project area has a high proportion of grand fir/Douglas fir cover types. These species tend to be more susceptible/vulnerable to insects and diseases and grand fir is unlikely to survive in wildfire. There is a need to trend the area towards a more diverse and resilient forest structure by creating a range of age classes, size classes, species diversity and disturbance patterns that more closely emulate natural mixed severity disturbance. Shifting tree species composition by retaining and planting early seral species (i.e. ponderosa pine, western larch and western white pine) in managed areas would help trend the area toward or maintain desired habitat conditions and would make these habitats more resistant and resilient to change agents such as insect, disease, and fire.

Goods and Service

Purpose: To utilize timber outputs produced through forest management activities to support the economic structure of local communities.

Need: The need to provide a sustained yield of resource outputs is directed in the Forest Plan. Much of the area consists of grand fir dominated stands that have insect and disease infestations that are contributing to increased tree mortality, or are at risk from stand replacing events. Stands proposed for treatment are currently losing volume and value due to insects and disease. Harvest of the timber would provide materials to local industries.

Fire Regime/Natural Disturbance Restoration and Fuel Reduction

Purpose: Break up fuel continuity created by past wildfires which would reduce the potential for large scale crown fires. Reduce shade tolerant ladder fuels around existing legacy trees to retain those more fire resistant legacy trees on the landscape over the long term. These activities would emulate mixed severity fire.

Need: Effective fire suppression in this area has created a vegetative shift to less fire resistant species, and an increase in ladder fuels that can contribute to the risk of high intensity and potentially resource damaging wildfire. Past harvest patterns do not emulate natural disturbance patterns nor do they emulate natural habitat structure. There is a need to increase patch sizes to shift age and size class distributions to increase high quality early seral wildlife habitats. Landscape burning and timber harvest that mimics natural fire would help increase forest resilience, help reduce risk of wildfires, and help create high quality habitats that would benefit birds, small mammals, and big game species. Fire dependent wildlife species would benefit from landscape burning.

Watershed Improvement

Purpose: Reduce potential sediment inputs into the aquatic ecosystem.

Need: Sediment input from gravel and native surface roads can flow into streams, negatively affecting fish habitat and water quality. Improvement of watershed function and stream conditions can be accomplished by reducing road densities and repairing existing roads and culverts to reduce sediment and improve drainage. Decompacting soils and adding organic material on old skid trails and landings can also help to improve watershed function.

The Proposed Action would:

Improve forest health, provide goods and services, reduce fuels and improve wildlife habitat by:

• Conducting “variable retention” regeneration harvest and post-harvest burning activities on up to 2300 acres distributed across the focus areas to create early sucessional plant communities and improve wildlife habitat while re-establishing long-lived early seral tree species. Variable retention harvest would include areas of full retention (clumps), irregular edges, and retention of snags and legacy trees to provide structure and a future source of woody debris. Openings would likely exceed 40 acres. Creation of openings over 40 acres requires 60 day public review and Regional Forest approval. This letter provides public notice that an environmental impact statement will be prepared and Regional Forester approval requested.

• Applying improvement harvest (thin from below) on approximately 875 acres to remove encroachment and ladder fuels from ponderosa pine dominated stands.

• Construct up to 18 miles of temporary roads to carry out the proposed action. Roads would be designed and located to minimize environmental effects and decommissioned after use.

• Harvest would be conducted by ground based (tractor/skyline) and aerial (helicopter) logging systems. Logs would likely be landed in the Wild and Scenic River corridor at designated helicopter landings.

• Creating a shaded fuel break and defensible space for approximately 300 feet on NFS lands adjacent to private properties within the project area. This may include commercial and non-commercial thinning, pruning of ladder fuels and hand piling of slash.

Watershed Improvement

• 2-3 miles of system roads no longer considered necessary for transportation needs would be decommissioned.

• Maintaining and improving of 7-10 miles of roads used to support the proposed actions. Maintenance or improvement may include culvert installation or replacement, ditch cleaning, and riprap placement for drainage improvement. It may also include gravel placement, road grading and dust abatement.

Possible Alternatives the Forest Service will consider include a no-action alternative, which will serve as a baseline for comparison of alternatives. The proposed action will be considered along with additional alternatives that will be developed to meet the purpose and need for action, and to address significant issues identified during scoping.

Responsible Official and Lead Agency

The USDA Forest Service is the lead agency for this proposal. The Nez Perce-Clearwater Forest Supervisor is the responsible official.

The Decision To Be Made is whether to adopt the proposed action, in whole or inpart, or another alternative; and what mitigation measures and management requirements will be implemented.

The Scoping Process for the EIS is being initiated with this notice. The scoping process will identify issues to be analyzed in detail and will lead to the developemnt of alternatives to the proposal. The Forest Service is seeking information and comments from other Federal, State, and local agencies; Tribal Governments; and organizations and individuals who may be interested in or affected by the proposed action. Comments received in response to this notice, including the names and addresses of those who comment, will be a part of the project record and available for public review.

Early Notice of Importance of Public Participation in Subsequent Environmental Review: A draft environmental impact statement will be prepared for comment. The second major opportunity for public input will be when the draft EIS is published. The comment period for the draft EIS will be 45 days from the date the Environmental Protection Agency publishes the notice of availability in the Federal Register. The Draft EIS is anticipated to be available for public review in May 2013.

Dated: December 20, 2013.
Rick Brazell,
Forest Supervisor.

[FR Doc. 2013-31457 Filed 1-2-14; 8:45 am]

BILLING CODE 3410-11-P